DEPARTMENT OF EDUCATION

[Docket No.: ED-2023-SCC-0210]

Agency Information Collection Activities; Submission to the Office of Management and Budget for Review and Approval; Comment Request; Foreign Institution Reporting Requirements Under the CARES Act

AGENCY: Federal Student Aid (FSA), Department of Education (ED).

ACTION: Notice.

SUMMARY: In accordance with the Paperwork Reduction Act (PRA) of 1995, the Department is proposing a new information collection request (ICR).

DATES: Interested persons are invited to submit comments on or before March 21, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Foreign Institution Reporting Requirements under the CARES Act.

OMB Control Number: 1845-NEW.

Type of Review: New ICR.

Respondents/Affected Public: State, Local, and Tribal Governments; Private Sector.

Total Estimated Number of Annual Responses: 104.

Total Estimated Number of Annual Burden Hours: 52.

Abstract: The Department of Education (the Department) is requesting a new information collection, 1845-NEW, Foreign Institution Reporting Requirements under the CARES Act, be made available for full clearance with public comment. Section 3510(a) of the CARES Act, Public Law 116-136 (March 27, 2020), authorized the Secretary of Education (Secretary) to permit a foreign institution, in the case of a public health emergency, major disaster or emergency, or national emergency declared by the applicable government authorities in the country in which the foreign institution is located, to provide any part of an otherwise eligible program to be offered via distance education for the duration of such emergency or disaster and the following payment period for purposes of title IV of the Higher Education Act of 1965 (20 U.S.C. 1070 et seq.). Additionally, under section 3510(d) of the CARES Act, the Secretary may allow a foreign institution to enter into a written arrangement with an institution of higher education located in the United States that participates in the Federal Direct Loan Program under part D of title IV of the Higher Education Act of 1965 (20 U.S.C. 1087a et seq.) for the purpose of allowing a student of the foreign institution who is a borrower of a loan made under such part to take courses from the institution of higher education located in the United States. The CARES Act requires foreign institutions that use either type of authority described above to report such use to the Secretary. Institutions are required to report use of either distance education or written arrangements to the Department no later than 30 days after it begins offering coursework online to Direct Loan recipients. The Department must also collect specific information from a school that requests a waiver in order to determine if the school is eligible to receive the waiver. On May 12, 2020, Federal Student Aid, an Office of the Department, notified foreign institutions of the new authority and requested that any foreign institution who wished to utilize this new authority to respond with information specified in the email. This information collection was discontinued following the discontinuation of the national COVID-19 emergency status. However, due to other global situations we are now requesting a new collection to allow for the on-going use of the CARES Act waiver.

Dated: February 13, 2024.
Kun Mullan,
PRA Coordinator, Strategic Collections and Clearance, Governance and Strategy Division, Office of Chief Data Officer, Office of Planning, Evaluation and Policy Development.

[FR Doc. 2024-03341 Filed 2-16-24; 8:45 am]

BILLING CODE 4000-01-P